DEPARTMENT OF AGRICULTURE

Submission for OMB Review; Comment Request

October 11, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by November 15, 2018 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

30-Day Federal Register Notice

Food and Nutrition Service

Title: The Assessment of Mandatory Supplemental Nutrition Assistance Program (SNAP) Employment &Training (E&T) Programs.

OMB Control Number: 0584-NEW.

Summary of Collection: U.S. Department of Agriculture's Food and Nutrition Service (FNS) will conduct a study Assessment of Mandatory SNAP E&T Programs to examine program features and administrative practices of mandatory State SNAP E&T programs. Section 17 [7 U.S.C. 2026] (a)(1) of the Food and Nutrition Act of 2008, as amended, provides general legislative authority for the planned data collection. It authorizes the Secretary of Agriculture to enter into contracts with private institutions to undertake research that will help to improve the administration and effectiveness of the Supplemental Nutrition Assistance Program (SNAP) in delivering nutrition-related benefits.

Need and Use of the Information: This study will help FNS understand what data exists on how well mandatory programs help SNAP participants gain skills, certificates, and credentials as well as stable, well-paying jobs. While the intent of the mandatory E&T program is to assist SNAP participants in “gaining skills, trainings, or experience that will increase their ability to obtain regular employment,” little is known about whether or how specific E&T processes and services affect a participant's likelihood of participating or being sanctioned. In particular, little is known on whether complex intake or referral processes, rather than a lack of interest in participating in E&T, may negatively impact participation in mandatory programs.

The findings from this study will identify lessons learned and best practices for operating mandatory E&T programs.

Description of Respondents: State, Local & Tribal Agencies; Business-not-for-profit and Business for-profit; Individuals/Households.

Number of Respondents: 207.

Frequency of Responses: Reporting: Annually.

Total Burden Hours: 393.

Ruth Brown,
Departmental Information Collection Clearance Officer.

[FR Doc. 2018-22449 Filed 10-15-18; 8:45 am]

BILLING CODE 3410-30-P